DEPARTMENT OF HOMELAND SECURITY

Federal Emergency Management Agency

[Docket ID FEMA-2015-0001; Internal Agency Docket No. FEMA-B-1529]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 1, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1529, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: August 10, 2015.
Roy E. Wright,
Deputy Associate Administrator for Insurance and Mitigation, Department of Homeland Security, Federal Emergency Management Agency.

I. Non-watershed-based studies:

Community | Community map repository address
Yavapai County, Arizona, and Incorporated Areas
Maps Available for Inspection Online at: http://www.fema.gov/preliminaryfloodhazarddata
Project: 13-09-0279S Preliminary Date: April 24, 2015
City of Prescott | Public Works Department, 201 South Cortez Street, Prescott, AZ 86303.
Unincorporated Areas of Yavapai County | Yavapai County Flood Control District Office, 1120 Commerce Drive, Prescott, AZ 86305.

Community | Community map repository address
Sonoma County, California, and Incorporated Areas
Maps Available for Inspection Online at: http://www.fema.gov/preliminaryfloodhazarddata
Project: 10-09-0037S Preliminary Date: February 23, 2015
City of Santa Rosa | Engineering Division, 100 Santa Rosa Avenue, Room 3, Santa Rosa, CA 95404.
Unincorporated Areas of Sonoma County | Sonoma County Permit and Resource Management, 2550 Ventura Avenue, Santa Rosa, CA 95403.

Community | Community map repository address
Muscatine County, Iowa and Incorporated Areas
Maps Available for Inspection Online at: http://www.fema.gov/preliminaryfloodhazarddata
Project: 12-07-0955S Preliminary Date: April 30, 2015
City of Muscatine | City Hall, Community Development Department, 215 Sycamore Street, Muscatine, IA 52761.
Unincorporated Areas of Muscatine County | Muscatine County Zoning Office, 3610 Park Avenue West, Muscatine, IA 52761.

Community | Community map repository address
Marshall County, Minnesota and Incorporated Areas
Maps Available for Inspection Online at: http://www.fema.gov/preliminaryfloodhazarddata
Project: 15-05-0583S Preliminary Date: September 30, 2011
City of Alvarado | City Hall, 155 Marshall Street, Alvarado, MN 56710.
City of Argyle | City Hall, 701 Pacific Avenue, Argyle, MN 56713.
City of Grygla | Grygla Civic Building, 219 West Beltrami Street, Grygla, MN 56727.
Unincorporated Areas of Marshall County | Marshall County Courthouse, 208 East Colvin Avenue, Warren, MN 56762.
City of Middle River | Spruce Valley Community Center, 250 Hill Avenue, Middle River, MN 56737.
City of Newfolden | City Hall, 145 East First Street, Newfolden, MN 56738.
City of Oslo | City Hall, 107 Third Avenue East, Oslo, MN 56744.
City of Stephen | City Hall, 41 Fifth Street, Suite B, Stephen, MN 56757.
City of Warren | City Hall, 120 East Bridge Avenue, Warren, MN 56762.

Community | Community map repository address
Lyon County, Nevada, and Incorporated Areas
Maps Available for Inspection Online at: http://www.fema.gov/preliminaryfloodhazarddata
Project: 09-09-3064S Preliminary Date: February 27, 2015
Unincorporated Areas of Lyon County | 27 South Main Street, Yerington, NV 89447.
City of Yerington | 102 South Main Street, Yerington, NV 89447.

Community | Community map repository address
Kitsap County, Washington, and Incorporated Areas
Maps Available for Inspection Online at: http://www.fema.gov/preliminaryfloodhazarddata
Project: 12-10-0360S Preliminary Date: November 18, 2014
City of Bainbridge Island | Department of Planning and Community Development, 280 Madison Avenue N, Bainbridge Island, WA 98110.
City of Bremerton | Public Works and Utilities, 3027 Olympus Drive, Bremerton, WA 98310.
City of Port Orchard | Department of Community Development, 216 Prospect Street, Port Orchard, WA 98366.
City of Poulsbo | City Hall, 200 NE Moe Street, Poulsbo, WA 98370.
Unincorporated Areas of Kitsap County | Department of Community Development, 614 Division Street, MS-36, Port Orchard, WA 98366.

[FR Doc. 2015-21701 Filed 9-1-15; 8:45 am]

BILLING CODE 9110-12-P